DEPARTMENT OF DEFENSE

GENERAL SERVICES ADMINISTRATION

NATIONAL AERONAUTICS AND SPACE ADMINISTRATION

48 CFR Chapter 1

Federal Acquisition Circular 2001-19; Introduction

AGENCIES: Department of Defense (DoD), General Services Administration (GSA), and National Aeronautics and Space Administration (NASA).

ACTION: Summary presentation of final rules and technical amendments and corrections.

SUMMARY: This document summarizes the Federal Acquisition Regulation (FAR) rules agreed to by the Civilian Agency Acquisition Council and the Defense Acquisition Regulations Council in this Federal Acquisition Circular (FAC) 2001-19. A companion document, the Small Entity Compliance Guide (SECG), follows this FAC. The FAC, including the SECG, is available via the Internet at http://www.arnet.gov/far.

DATES: For effective dates and comment dates, see separate documents which follow.

FOR FURTHER INFORMATION CONTACT: The FAR Secretariat at (202) 501-4755 for information pertaining to status or publication schedules. For clarification of content, contact the analyst whose name appears in the table below in relation to each FAR case or subject area. Please cite FAC 2001-19 and specific FAR case number(s). Interested parties may also visit our Web site at http://www.arnet.gov/far.

Item | Subject | FAR case | Analyst
I | New Consolidated Form for Selection of Architect-Engineer Contractors | 2000-608A | Davis.
II | Free Trade Agreements—Chile and Singapore, and Trade Agreements Thresholds (Interim) | 2003-016 | Davis.

SUPPLEMENTARY INFORMATION: Summaries for each FAR rule follow. For the actual revisions and/or amendments to these FAR cases, refer to the specific item number and subject set forth in the documents following these item summaries.

FAC 2001-19 amends the FAR as specified below:

Item I—New Consolidated Form for Selection of Architect-Engineer Contractors (FAR Case 2000-608A)

This amendment to final rule, FAR Case 2000-608, New Consolidated Form for Selection of Architect-Engineer Contractors, changes the effective date from January 12, 2004, to June 8, 2004. This final rule was published in FAC 2001-018 in the Federal Register at 68 FR 69227, December 11, 2003. This amendment also eliminates the reference to an applicability date. By changing the effective date, it allows the users of the SF 330 more time to prepare before the SF 330 is effective.

Item II—Free Trade Agreements—Chile and Singapore, and Trade Agreements Thresholds (Interim) (FAR Case 2003-016)

This interim rule amends FAR parts 5, 12, 13, 14, 17, 19, 22, 25, and 52 to implement new Free Trade Agreements with Chile and Singapore, as approved by Congress (Public Laws 108-77 and 108-78). These Free Trade Agreements are scheduled to go into effect January 1, 2004. Singapore is already a designated country under the Trade Agreements Act, but Chile was not previously a designated country. The threshold under these Free Trade Agreements for acquisition of end products and services is $58,550 and the threshold for construction contracts is $6,725,000. In acquisitions that exceed these thresholds and are subject to trade agreements, this rule allows the acquisition of end products or construction material from Chile or Singapore without application of the Buy American Act, and provides for certain procedures in the acquisition of services, unless the service is excluded from coverage by the trade agreement. The interim rule directs the contracting officer to determine the origin of a service by the country in which the firm providing the services is established. The interim rule also implements new dollar thresholds for application of trade agreements, as published by the U.S. Trade Representative in the Federal Register at 68 FR 70861, December 19, 2003. Contracting officers must review the new thresholds in order to select the appropriate clauses to implement the Buy American Act, trade agreements, and sanctions of European Union country end products and services.

Dated: December 30, 2003.
Laura Auletta,
Director, Acquisition Policy Division.

Federal Acquisition Circular

Federal Acquisition Circular (FAC) 2001-19 is issued under the authority of the Secretary of Defense, the Administrator of General Services, and the Administrator for the National Aeronautics and Space Administration.

Unless otherwise specified, all Federal Acquisition Regulation (FAR) and other directive material contained in FAC 2001-19 are effective January 7, 2004, except for Item II, which is effective January 1, 2004.

Dated: December 30, 2003.

Richard K. Sylvester,

Acting Director, Defense Procurement and Acquisition Policy.

Dated: December 29, 2003.

David A. Drabkin,

Deputy Associate Administrator, Office of Acquisition Policy, General Services Administration.

Dated: December 30, 2003.

Lynn W. Bailets,

Acting Assistant Administrator for Procurement, National Aeronautics and Space Administration.

[FR Doc. 04-176 Filed 1-6-04; 8:45 am]

BILLING CODE 6820-EP-P